COMMITTEE FOR THE IMPLEMENTATION OF TEXTILE AGREEMENTS

Adjustment of Import Limits for Certain Cotton, Wool and Man-Made Fiber Textiles and Textile Products and Silk Blend and Other Vegetable Fiber Apparel Produced or Manufactured in Malaysia

September 27, 2001.

AGENCY: Committee for the Implementation of Textile Agreements (CITA).

ACTION: Issuing a directive to the Commissioner of Customs adjusting limits.

EFFECTIVE DATE: October 3, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs Web site at http://www.customs.gov. For information on embargoes and quota re-openings, refer to the Office of Textiles and Apparel Web site at http://otexa.ita.doc.gov.

SUPPLEMENTARY INFORMATION:

Authority:

Section 204 of the Agricultural Act of 1956, as amended (7 U.S.C. 1854); Executive Order 11651 of March 3, 1972, as amended.

The current limits for certain categories are being adjusted for swing, special swing, special shift and carryforward.

A description of the textile and apparel categories in terms of HTS numbers is available in the CORRELATION: Textile and Apparel Categories with the Harmonized Tariff Schedule of the United States (see Federal Register notice 65 FR 82328, published on December 28, 2000). Also see 65 FR 69914, published on November 21, 2000.

D. Michael Hutchinson,
Acting Chairman, Committee for the Implementation of Textile Agreements.

Committee for the Implementation of Textile Agreements

September 27, 2001.

Commissioner of Customs,

Department of the Treasury, Washington, DC 20229.

Dear Commissioner: This directive amends, but does not cancel, the directive issued to you on November 15, 2000, by the Chairman, Committee for the Implementation of Textile Agreements. That directive concerns imports of certain cotton, wool and man-made fiber textiles and textile products and silk blend and other vegetable fiber apparel, produced or manufactured in Malaysia and exported during the twelve-month period which began on January 1, 2001 and extends through December 31, 2001.

Effective on October 3, 2001, you are directed to adjust the limits for the following categories, as provided for under the Uruguay Round Agreement on Textiles and Clothing:

Category | Adjusted twelve-month limit ¹
Fabric Group |
218-220, 225-227, 313-326, 611-O ², 613/614/615/617, 619 and 620, as a group | 153,707,380 square meters equivalent.
Other specific limits |
200 | 429,274 kilograms.
237 | 370,720 dozen.
331/631 | 3,163,955 dozen pairs.
333/334/335/835 | 411,006 dozen of which not more than 227,337 dozen shall be in Category 333 and not more than 227,337 dozen shall be in Category 835.
336/636 | 742,020 dozen.
338/339 | 1,823,801 dozen.
340/640 | 1,974,072 dozen.
341/641 | 1,928,399 dozen of which not more than 832,397 dozen shall be in Category 341.
342/642/842 | 592,447 dozen.
345 | 248,599 dozen.
347/348 | 682,930 dozen.
350/650 | 188,310 dozen.
351/651 | 417,802 dozen.
604 | 1,890,903 kilograms.
634/635 | 1,176,690 dozen.
638/639 | 789,053 dozen.
645/646 | 394,976 dozen.
647/648 | 2,699,181 dozen of which not more than 1,729,445 dozen shall be in Category 647-K ³ and not more than 1,729,445 dozen shall be in Category 648-K ⁴.
Group II |
201, 222-224, 239pt. ⁵, 332, 352, 359pt. ⁶, 360-362, 369pt. ⁷, 400-431, 433, 434, 436, 438-O ⁸, 440, 443, 444, 447, 448, 459pt. ⁹, 464, 469pt. ¹⁰, 600-603, 606, 607, 618, 621, 622, 624-629, 633, 643, 644, 649, 652, 659pt. ¹¹, 666, 669pt. ¹², 670, 831, 833, 834, 836, 838, 840, 843-858 and 859pt. ¹³, as a group | 63,075,381 square meters equivalent.
¹ The limits have not been adjusted to account for any imports exported after December 31, 2000.
² Category 611-O: all HTS numbers except 5516.14.0005, 5516.14.0025 and 5516.14.0085
³ Category 647-K: only HTS numbers 6103.23.0040, 6103.23.0045, 6103.29.1020, 6103.29.1030, 6103.43.1520, 6103.43.1540, 6103.43.1550, 6103.43.1570, 6103.49.1020, 6103.49.1060, 6103.49.8014, 6112.12.0050, 6112.19.1050, 6112.20,.1060 and 6113.00.9044.
⁴ Category 648-K: only HTS numbers 6104.23.0032, 6104.23.0034, 6104.29.1030, 6104.29.1040, 6104.29.2038, 6104.63.2006, 6104.63.2011, 6104.63.2026, 6104.63.2028, 6104.63.2030, 6104.63.2060, 6104.69.2030, 6104.69.2060, 6104.69.8026, 6112.12.0060, 6112.19.1060, 6112.20.1070, 6113.00.9052 and 6117.90.9070.
⁵ Category 239pt.: only HTS number 6209.20.5040 (diapers).
⁶ Category 359pt.: all HTS numbers except 6406.99.1550.
⁷ Category 369pt.: all HTS numbers except 5601.10.1000, 5601.21.0090, 5701.90.1020, 5701.90.2020, 5702.10.9020, 5702.39.2010, 5702.49.1020, 5702.49.1080, 5702.59.1000, 5702.99.1010, 5702.99.1090, 5705.00.2020 and 6406.10.7700.
⁸ Category 438-O: only HTS numbers 6103.21.0050, 6103.23.0025, 6105.20.1000, 6105.90.1000, 6105.90.8020, 6109.90.1520, 6110.10.2070, 6110.30.1550, 6110.90.9072, 6114.10.0020 and 6117.90.9025.
⁹ Category 459pt.: all HTS numbers except 6405.20.6030, 6405.20.6060, 6405.20.6090, 6405.99.1505 and 6406.99.1560.
¹⁰ Category 469pt.: all HTS numbers except 5601.29.0020, 5603.94.1010 and 6406.10.9020.
¹¹ Category 659pt.: all HTS numbers except 6406.99.1510 and 6406.99.1540.
¹² Category 669pt.: all HTS numbers except 5601.10.2000, 5601.22.0090, 5607.49.3000, 5607.50.4000 and 6406.10.9040.
¹³ Category 859pt.: only HTS numbers 6115.19.8040, 6117.10.6020, 6212.10.5030, 6212.10.9040, 6212.20.0030, 6212.30.0030, 6212.90.0090, 6214.10.2000 and 6214.90.0090.

The Committee for the Implementation of Textile Agreements has determined that these actions fall within the foreign affairs exception of the rulemaking provisions of 5 U.S.C. 553(a)(1).

Sincerely,

D. Michael Hutchinson,

Acting Chairman, Committee for the Implementation of Textile Agreements.

[FR Doc.01-24676 Filed 10-2-01; 8:45 am]

BILLING CODE 3510-DR-S